DEPARTMENT OF ENERGY

Federal Energy Regulatory Commission

[Docket Nos. RM06-16-010; RM06-16-011]

Mandatory Reliability Standards for the Bulk Power System; Supplemental Notice of Technical Conference

September 17, 2010.

On August 19, 2010 the Federal Energy Regulatory Commission announced that a Technical Conference on Frequency Response in the Wholesale Electric Grid would be held on Thursday, September 23, from 10 a.m. to 4 p.m. This staff-led conference will be held in the Commission Meeting Room at the Federal Energy Regulatory Commission, 888 First Street, NE., Washington, DC 20426. The conference will be open for the public to attend and advance registration is not required. Members of the Commission may attend the conference. A supplemental notice issued on September 14, 2010 contained the agenda for this conference.

We hereby announce that a free webcast of the technical conference in this proceeding will be available. Anyone with Internet access interested in viewing this conference can do so by navigating to http://www.ferc.gov' s Calendar of Events and locating the appropriate event in the Calendar. The Calendar of Events will contain a link to the applicable webcast option. The Capitol Connection provides technical support for the webcasts and offers the option of listening to the conferences via phone-bridge for a fee. If you have any questions, visit http://www.CapitolConnection.org or call (703) 993-3100.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: Sarah McKinley, Office of External Affairs, Federal Energy Regulatory Commission, 888 First Street, NE., Washington, DC 20426, (202) 502-8368, sarah.mckinley@ferc.gov.

Kimberly D. Bose,
Secretary.

[FR Doc. 2010-24075 Filed 9-24-10; 8:45 am]

BILLING CODE 6717-01-P